NUCLEAR REGULATORY COMMISSION

10 CFR Chapter 1

Rulemaking Communications Improvements

AGENCY: U.S. Nuclear Regulatory Commission.

ACTION: Request for comments.

SUMMARY: The Nuclear Regulatory Commission (NRC) is seeking comments and recommendations from all interested persons regarding options for improving NRC communications with the public on agency rulemaking activities.

DATES: Submit comments by July 1, 2002. Comments received after this date will be considered only if it is practical to do so.

ADDRESSES: Submit written comments to: Secretary, U.S. Nuclear Regulatory Commission, Washington, DC 20555-0001, Attention: Rulemakings and Adjudications Staff, Mail Stop O-16C1, or deliver written comments to One White Flint North, 11555 Rockville Pike, Rockville, Maryland, between 7:30 a.m. and 4:15 p.m. on Federal workdays.

You may also provide comments via the NRC's interactive rulemaking Web site at http://ruleforum.llnl.gov. This site provides the capability to upload comments as files (any format), if your Web browser supports that function. For information about the interactive rulemaking Web site, contact Ms. Carol Gallagher at (301) 415-5905 or by e-mail to cag@nrc.gov. Copies of any comments received and certain documents related to this notice may be examined at the NRC Public Document Room, located at One White Flint North, 11555 Rockville Pike (first floor), Rockville, Maryland. The NRC maintains an electronic Agencywide Documents Access and Management System (ADAMS), which provides text and image files of NRC's public documents. Public comments on this notice may be accessed In ADAMS through the NRC's Public Electronic Reading Room on the Internet at http://www.nrc.gov/reading-rm/adams.html. If you do not have access to ADAMS, or if there are problems in accessing the documents located in ADAMS, contact the NRC Public Document Room (PDR) Reference staff at 1-800-397-4209, 301-415-4737 or by email to pdr@nrc.gov.

FOR FURTHER INFORMATION CONTACT: William Huffman, Policy and Rulemaking Program, Office of Nuclear Reactor Regulation, U.S. Nuclear Regulatory Commission, Washington, DC 20555-0001; Telephone: (301) 415-1141; E-mail: wch@nrc.gov or Merri Horn, Rulemaking and Guidance Branch, Office of Nuclear Material Safety and Safeguards; Telephone: (301) 415-8126; E-mail: mlh1@nrc.gov.

SUPPLEMENTARY INFORMATION: The NRC currently communicates with the public about rulemaking activities in a number of ways. The agency notices all rulemaking actions in the Federal Register, and invites the public to comment on noticed actions via mail, hand delivery, or by uploading a file to the agency's RuleForum Web site (http://ruleforum.llnl.gov). The RuleForum site contains extensive information on both specific rulemakings under development and general rulemaking activities, and allows visitors to read comments submitted to the NRC by other members of the public. Documents related to rulemaking activities, including public comments, can also be accessed online through the NRC's Agencywide Documents Access and Management System (ADAMS) at http://www.nrc.gov/reading-rm/adams.html.

In addition, the NRC's Public Document Room (PDR), located at the agency's headquarters in Rockville, MD, is open to the public on all Federal work days. Occasionally, the agency conducts meetings or workshops related to specific rulemakings, events which are publicized in the Federal Register and on the NRC's home page (http://www.nrc.gov).

As part of an ongoing effort to improve stakeholder satisfaction with the way the NRC communicates with the public, the agency is considering enhancements to its current methods of informing the public about rulemaking activities and to encourage public participation in the rulemaking process. To support this endeavor, the NRC is requesting comment on its rulemaking communications process. Comment is requested on, but need not be limited to, the topics below:

(1) In addition to the use of the Federal Register and the NRC rulemaking Web site, what other forums would be effective in informing the public about rulemaking activities?—e.g., e-Mail, mailing lists, announcements on related Web sites, public meetings, or other suggestions.

(2) The general process used by the public to provide comments on rulemakings published in the Federal Register is to either mail the comments to the Secretary, U.S. Nuclear Regulatory Commission or use the NRC's interactive rulemaking Web site. In addition, public meetings are occasionally used for obtaining public comments for some rulemakings. Are there any other methods that might be used to facilitate public comments on rulemaking activities?

(3) At what stage(s) of the rulemaking process is interaction with the public most effective and beneficial?—e.g., at the beginning of the process before a rulemaking plan has been approved; shortly after a rulemaking plan has been approved; shortly before issuing a proposed rule; during the public comment period; or after a rulemaking has been proposed to the public and comments have been received and assessed but before the final rule has been approved?

(4) What method of public interaction on rulemaking activities is preferred?—e.g., Federal Register notice; posting draft rule language on the Web; meetings; or other suggestions?

(5) How useful are public meetings for communicating NRC rulemaking activities to all stakeholders?

A. Are there occasions where public meetings are important in conducting rulemaking activities?

B. For those that consider public meetings on rulemaking activities an important part of the process, at what stage of the rulemaking process would meetings be most beneficial and effective?—e.g., at the beginning of the process before a rulemaking plan has been approved; shortly after a rulemaking plan has been approved; shortly before issuing a proposed rule; during the public comment period; or after a rulemaking has been proposed to the public and comments have been received and assessed but before the final rule has been approved?

(6) Are published responses to public comments on proposed rules generally comprehensive, clearly written, and well-argued?

(7) How useful is the initiative by the NRC to place draft rulemaking language on the NRC Web site with or without the associated statement of considerations?

(8) How can the NRC obtain better information and comments on the cost or benefit of a rulemaking under development—i.e., information used to create a regulatory analysis?

(9) Is the NRC's typical 75-day comment period for proposed rules sufficient?

Dated at Rockville, Maryland, this 23rd day of May, 2002.
For the Nuclear Regulatory Commission.
Christopher I. Grimes,
Program Director, Policy and Rulemaking Program, Division of Regulatory Improvement Programs, Office of Nuclear Reactor Regulation.
Patricia K. Holahan,
Chief, Rulemaking and Guidance Branch, Division of Industrial and Medical Nuclear Safety, Office of Nuclear Material Safety and Safeguards.

[FR Doc. 02-13468 Filed 5-29-02; 8:45 am]

BILLING CODE 7590-01-P